DEPARTMENT OF COMMERCE

National Oceanic and Atmospheric Administration

[I.D. 011402C]

Marine Mammals; File No. 1018-1655-00

AGENCY: National Marine Fisheries Service (NMFS), National Oceanic and Atmospheric Administration (NOAA), Commerce.

ACTION: Issuance of permit.

SUMMARY: Notice is hereby given that Luciana Moller, Ph.D., Department of Ecology and Evolutionary Biology, Yale University, New Haven, Connecticut 06520 has been issued a permit to import tissue samples taken from bottlenose dolphins (Tursiops aduncus) in Australia for purposes of scientific research.

ADDRESSES: The permit and related documents are available for review upon written request or by appointment in the following office(s):

Permits, Conservation and Education Division, Office of Protected Resources, NMFS, 1315 East-West Highway, Room 13705, Silver Spring, MD 20910; phone (301) 713-2289; fax (301) 713-0376;

Northeast Region, NMFS, One Blackburn Drive, Gloucester, MA 01930-2298; phone (978) 281-9200; fax (978) 281-9371.

FOR FURTHER INFORMATION CONTACT: Amy Sloan or Lynne Barre (301) 713-2289.

SUPPLEMENTARY INFORMATION: On November 14, 2001, notice was published in the Federal Register (66 FR 57041) that a request for a scientific research permit to import skin and blubber biopsy samples taken from bottlenose dolphins (Tursiops aduncus) in Australia had been submitted by the above-named individual. The requested permit has been issued under the authority of the Marine Mammal Protection Act of 1972, as amended (16 U.S.C. 1361 et seq.), and the Regulations Governing the Taking and Importing of Marine Mammals (50 CFR part 216).

Dated: January 23, 2002.
Ann D. Terbush,
Chief, Permits, Conservation and Education Division, Office of Protected Resources, National Marine Fisheries Service.

[FR Doc. 02-2137 Filed 1-28-02; 8:45 am]

BILLING CODE 3510-22-S